DEPARTMENT OF JUSTICE

Notice of Extension of Public Comment Period for Proposed Consent Decree Under the Clean Air Act, Clean Water Act, RCRA, and EPCRA

Under 28 CFR 50.7, notice is hereby given that the public comment period is extended by two weeks for a proposed Consent Decree in United States v. Koch Petroleum Group, L.P., Civil Action No. 00-2756-PAM-SRN, which was lodged with the United States District Court for the District of Minnesota on December 22, 2001. Notice of the proposed settlement was published in the Federal Register on January 11, 2001, (Vol. 66, No. 8, PG. 2444-2445), beginning a 30-day public comment period, which will expire on February 12, 2001. The period for public comment is extended by two weeks, or through February 26, 2001.

Comments should be addressed to the Acting Assistant Attorney General, Environment and Natural Resources Division, P.O. Box 7611, U.S. Department of Justice, Washington, DC 20044-7611, and should refer to United States v. Koch Petroleum Group, L.P., D.J. Ref. 90-5-2-1-07110.

Robert D. Brook,
Assistant Chief, Environmental Enforcement Section, Environment and Natural Resources Division.

[FR Doc. 01-3453 Filed 2-9-01; 8:45 am]

BILLING CODE 4410-15-M